DEPARTMENT OF HOMELAND SECURITY

[Docket No. DHS-2016-0096]

Homeland Security Science and Technology Advisory Committee

AGENCY: Science and Technology Directorate, DHS.

ACTION: Committee Management; Notice of Federal Advisory Committee Meeting.

SUMMARY: The Homeland Security Science and Technology Advisory Committee (HSSTAC) will meet on February 16-17, 2017 in Washington, DC. The meeting will be an open session with both in-person and webinar participation.

DATES: The HSSTAC will meet in-person Thursday, February 16, 2017, from 1:30 p.m.-5:30 p.m. and Friday, February 17, 2017, from 9:00 a.m.-12:00 p.m.

Due to security requirements, screening pre-registration is required for this event. Please see the “REGISTRATION” section below.

The meeting may close early if the committee has completed its business.

ADDRESSES: Homeland Security, 1120 Vermont Ave. NW., 8th Floor, Washington, DC 20005.

FOR FURTHER INFORMATION CONTACT: Michel Kareis, HSSTAC Designated Federal Official, S&T IAO STOP 0205, Department of Homeland Security, 245 Murray Lane, Washington, DC 20528-0205, 202-254-8778, (Office), 202-254-6176 (Fax) Michel.Kareis@hq.dhs.gov (Email).

SUPPLEMENTARY INFORMATION:

I. Background

Notice of this meeting is given under the Federal Advisory Committee Act (FACA), 5 U.S.C. appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

To pre-register for the virtual meeting (webinar) please send an email to: hsstac@hq.dhs.gov. The email should include the name(s), title, organization/affiliation, email address, and telephone number of those interested in attending. For information on services for individuals with disabilities or to request special assistance at the meeting, please contact Michel Kareis as soon as possible.

If you plan to attend the meeting in-person you must RSVP by February 15, 2017. To register, email hsstac@hq.dhs.gov with the following subject line: RSVP to HSSTAC Meeting. The email should include the name(s), title, organization/affiliation, email address, and telephone number of those interested in attending.

III. Public Comment

At the end of each open session, there will be a period for oral statements. Please note that the oral statement period may end before the time indicated, following the last call for oral statements. To register as a speaker, contact the person listed in the FOR FURTHER INFORMATION CONTACT section.

To facilitate public participation, we invite public comment on the issues to be considered by the committee as listed in the “Agenda” below. Written comments must be received by February 6, 2017. Please include the docket number (DHS-2016-0084) and submit via one of the following methods:

• Federal eRulemaking Portal: http://www.regulations.gov. Follow the instructions for submitting comments.

• Email: hsstac@hq.dhs.gov. Include the docket number in the subject line of the message.

• Fax: 202-254-6176.

• Mail: Michel Kareis, HSSTAC Executive Director, S&T IAO STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2016-0096.

Agenda: Day 1: This session will begin with updates from the subcommittees under HSSTAC. The Commercialization Subcommittee will present draft recommendations to the committee for discussion. The Social Media Working Group Subcommittee will present the results from the vote to accept the Best Practices document and the status of the new Federal Advisory Committee designation. The Internet of Things Smart Cities will present the final recommendations. And lastly, an update on the creation of a subcommittee on Quadrennial Homeland Security Review (QHSR) and an update on tasking under the subcommittee will be provided. This session will be followed by questions from the public. There will be discussions on the Internet of Things draft guidance document for their Next Generation First Responder (NGFR) program and the HSSTAC FY17 planning updates followed by public comments to close out the day. Day 2: The morning session will begin with a meeting overview followed by sessions on Technology Scouting, Technology Transfer and Commercialization.

The sessions will focus discussion on the technology development lifecycle to include best practice recommendations on how to create situational awareness of new or emerging trends, technologies, capabilities and research; develop processes to efficiently use networks and partnerships to identify, locate, and evaluate existing or developing technologies, and identify methods that can be used to engage the commercial marketplace to support the development and ultimately the acquisition by homeland security stakeholders of new technologies while prioritizing the need to leverage limited resources and maximize impact. The day will end with questions and comments from the public.

Dated: January 12, 2017.
Michel Kareis,
Executive Director, Homeland Security Science and Technology Advisory Committee.

[FR Doc. 2017-01290 Filed 1-18-17; 8:45 am]

BILLING CODE 4410-10-P